DEPARTMENT OF ENERGY

Federal Energy Regulatory Commission

Notice of Commission Staff Attendance at North American Electric Reliability Corporation Meetings

January 19, 2010.

The Federal Energy Regulatory Commission hereby gives notice that members of the Commission and Commission staff may attend the following North American Electric Reliability Corporation meetings:

NERC Board of Trustees Meeting

February 15, 2010, Monday, Phoenix, AZ, 1 p.m. to 5 p.m. MT

February 16, 2010, Tuesday, Phoenix, AZ, 8 a.m. to 12 p.m. MT

The meetings scheduled to be held in Phoenix will take place at: Arizona Grand Resort, 8000 South Arizona Grand Parkway, Phoenix, AZ 85044.

Further information may be found at http://www.nerc.com.

The above-referenced meetings are open to the public.

The discussions at each of the meetings described above may address matters at issue in the following proceedings:

Docket No. RC08-5, North American Electric Reliability Corporation

Docket No. RC08-4, North American Electric Reliability Corporation

Docket No. RC09-3, North American Electric Reliability Corporation

Docket No. RR09-7, North American Electric Reliability Corporation

Docket No. RR10-1, North American Electric Reliability Corporation

Docket No. RR10-2, North American Electric Reliability Corporation

Docket No. RR10-3, North American Electric Reliability Corporation

Docket No. RR10-4, North American Electric Reliability Corporation

Docket No. RR10-5, North American Electric Reliability Corporation

Docket No. RR09-4, North American Electric Reliability Corporation

Docket No. RR09-9, North American Electric Reliability Corporation

Docket No. RD09-4, North American Electric Reliability Corporation

Docket No. RD09-5, North American Electric Reliability Corporation

Docket No. RD09-7, North American Electric Reliability Corporation

Docket No. RD09-8, North American Electric Reliability Corporation

Docket No. RD09-10, North American Electric Reliability Corporation

Docket No. RD09-11, North American Electric Reliability Corporation

Docket No. RD10-2, North American Electric Reliability Corporation

Docket No. RD10-3, North American Electric Reliability Corporation

Docket No. RD10-4, North American Electric Reliability Corporation

Docket No. RD10-5, North American Electric Reliability Corporation

Docket No. RD10-6, North American Electric Reliability Corporation

Docket No. RD10-7, North American Electric Reliability Corporation

Docket No. RD10-8, North American Electric Reliability Corporation

Docket No. RD10-9, North American Electric Reliability Corporation

For more information, contact Jonathan First, Office of the General Counsel-Energy Markets, Federal Energy Regulatory Commission at (202) 502-8529 or jonathan.first@ferc.gov, or Edward Franks, Office of Electric Reliability, Federal Energy Regulatory Commission at (202) 502-6311 or edward.franks@ferc.gov.

Kimberly D. Bose,
Secretary.

[FR Doc. 2010-1395 Filed 1-25-10; 8:45 am]

BILLING CODE 6717-01-P